DEPARTMENT OF COMMERCE

National Oceanic and Atmospheric Administration

[RTID 0648-XA631]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of the following: Snapper Grouper Committee; Dolphin Wahoo Committee; Habitat and Ecosystem-Based Management Committee, Mackerel Cobia Committee; Executive Committee (partially Closed Session); and Citizen Science Committee. The meeting week will also include a formal public comment session and a meeting of the Full Council (with a partially Closed Session). Due to public health concerns associated with COVID-19 and current travel restrictions, the meeting originally planned for Wrightsville Beach, NC will be held via webinar.

DATES: The Council meeting will be held from 9 a.m. on Monday, December 7, 2020 until 5 p.m. on Thursday, December 10, 2020.

ADDRESSES: The meeting will be held via webinar. Webinar registration is required. Details are included in SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including agendas, overviews, briefing materials and the meeting registration link will be posted on the Council's website at: http://safmc.net/safmc-meetings/council-meetings/.

Public comment: Written comments may be directed to John Carmichael, Executive Director, South Atlantic Fishery Management Council (see Council address) or electronically via the Council's website: https://safmc.wufoo.com/forms/m1ijpb670ziz2jz/. Comments received by close of business the Monday before the meeting (11/30/20) will be compiled, posted to the website as part of the meeting materials, and included in the administrative record; please use the Council's online form available from the website. Written comments received after the Monday before the meeting must be submitted using the Council's online form available from the website. Comments will automatically be posted to the website and available for Council consideration. Comments received prior to 9 a.m. on Wednesday, December 9, 2020 will be a part of the meeting administrative record.

The items of discussion in the individual meeting agendas are as follows:

Meeting Agenda

Council Session I, Monday, December 7, 2020, 9 a.m. Until 12 p.m. (Closed Session)

The Council will consider appointments for open advisory panel seats, review the composition of the Mackerel Cobia Advisory Panel (AP), and advisory panel policies. A legal briefing on litigation will also be provided if needed.

Council Session II, Monday, December 7, 2020, 1:30 p.m. Until 2:30 p.m. and 5 p.m. Until 6 p.m.

The Council will discuss the Acceptable Biological Catch (ABC) Control Rule including carry-over and phase-in provisions. Beginning at 5 p.m. Council members will receive a presentation on Draft Amendment 14 to the 2006 Consolidated Highly Migratory Species Fishery Management Plan (FMP) from NOAA Fisheries. The amendment addresses the ABC Control Rule, phase-in and carry over, and annual catch limit (ACL) provisions.

Snapper Grouper Committee, Monday, December 7, 2020, 2:30 p.m. Until 5 p.m. and Tuesday, December 8, 2020 from 8:30 a.m. Until 12 p.m.

The Committee will: Receive an update from NOAA Fisheries on the status of amendments under review; receive an overview of the stock assessment for yellowtail snapper, discuss and provide recommendations for Council consideration; and discuss whether nine snapper grouper species continue to need conservation and management under the Snapper Grouper FMP and consider options. The Committee will review comments provided by Wreckfish Individual Transferable Quota (ITQ) shareholders and dealers regarding Amendment 48 to the Snapper Grouper FMP addressing Wreckfish ITQ Modernization and is scheduled to approve the amendment for public scoping. The Committee will review potential management measures to end overfishing and revise the rebuilding plan for Red Porgy through draft Amendment 50 to the Snapper Grouper FMP and is scheduled to approve the amendment for public scoping. The Committee will receive an options paper addressing catch levels and management measures for greater amberjack.

Habitat Protection and Ecosystem-Based Management Committee, Tuesday, December 8, 2020, 1:30 p.m. Until 5 p.m.

The Committee will: Review Coral Amendment 10 addressing modifications to area closures for the deepwater shrimp fishery; receive an update on the Ecopath with Ecosim Model Review; receive a report from the Habitat Protection and Ecosystem-Based Management Advisory Panel (AP); receive a Fishery Ecosystem Plan (FEP) Roadmap Progress Report, and discuss the development of a Habitat and Ecosystem Program Blueprint.

Dolphin Wahoo Committee, Wednesday, December 9, 2020, 8:30 a.m. Until 12 p.m.

The Committee will receive an update from NOAA Fisheries on the review status of Amendment 12 to the Dolphin Wahoo FMP addressing bullet and frigate mackerel and receive a report from the Dolphin Wahoo AP. The Committee will review draft Amendment 10 to the Dolphin Wahoo FMP with actions that currently address: Revisions to recreational data and catch level recommendations, redefining Optimum Yield in the dolphin fishery, modifications to accountability measures, and other management revisions to the dolphin and wahoo fisheries. The Committee is scheduled to approve the amendment for public hearing.

Mackerel Cobia Committee, Wednesday, December 9, 2020, 1:30 p.m. Until 3:45 p.m.

The Committee will receive a report from the Mackerel Cobia AP, address management measures for Atlantic king mackerel following the recent stock assessment (Framework Amendment 10) and is scheduled to approve the amendment for public scoping. The Committee will consider modifications to catch levels and management measures to end overfishing of Gulf cobia (Amendment 32 to the Coastal Migratory Pelagics FMP).

Formal Public Comment, Wednesday, December 9, 2020, 4 p.m..—Public comment will be accepted via webinar on all items on the Council meeting agenda. Highlighted items scheduled to be approved for public scoping: Amendment 48 to the Snapper Grouper FMP (Wreckfish ITQ Modernization); Amendment 50 to the Snapper Grouper FMP (red porgy); and Framework Amendment 10 to the Coastal Migratory Pelagics FMP. Additionally, Amendment 10 to the Dolphin Wahoo FMP (dolphin wahoo management measures) is scheduled to be approved for public hearings. The Council Chair will determine the amount of time provided to each commenter based on the number of individuals wishing to comment.

Executive Committee, Thursday, December 10, 2020, 8:30 a.m. Until 12 p.m. (Partially Closed Session)

The Committee will conduct the annual performance review for the Council's Executive Director in Closed Session. In Open Session, the Committee will receive an update on the Council's 2021 budget and review the 2021 FMP Work Schedule.

Citizen Science Committee, Thursday, December 10, 2020, 10:30 a.m. Until 12 p.m.

The Committee will review Citizen Science Program Planning efforts, the Citizen Science Program Evaluation Plan, and receive an update on Citizen Science program and projects activities.

Council Session III, Thursday, December 10, 2020, 1:30 p.m. Until 5 p.m.

The Council will receive a report from the Executive Director, an update on development of the proposed approach to determine sector allocations, and an update on climate change scenario planning. The Council will also receive a report from the Council's Scientific and Statistical Committee, if needed, on any items not previously addressed during committee meetings. The Council will receive a report from the Outreach and Communications AP and another from the Southeast Data, Assessment and Review (SEDAR) Steering Committee.

NOAA Fisheries Southeast Fisheries Science Center staff will provide an update on staff restructuring and a report on the status of commercial electronic logbooks.

NOAA Fisheries Southeast Regional Office staff will provide an update on the status of For-Hire Electronic Reporting and the status of their evaluation of bycatch reporting efforts in the South Atlantic. The Council will also receive a Protected Resources report.

The Council will receive reports from the following committees: Snapper Grouper; Mackerel Cobia; Dolphin Wahoo; Habitat Protection and Ecosystem-Based Management; Citizen Science; and Executive. The Council will also address advisory panel appointments.

The Council will receive agency and liaison reports, discuss other business and upcoming meetings, and take action as necessary.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: November 16, 2020.
Rey Israel Marquez,
Acting Deputy Director, Office of Sustainable Fisheries, National Marine Fisheries Service.

[FR Doc. 2020-25586 Filed 11-18-20; 8:45 am]

BILLING CODE 3510-22-P